DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker licenses are canceled without prejudice.

Name | License No. | Issuing port
G.H. Matthes Co., Inc. | 16882 | New York.
Richard Murray, III | 3408 | Washington, DC.
Fernando L. Lozano | 21724 | Laredo.
Marathon Freight Services, Inc. | 08096 | New York.
American Brokerage Int'l Inc. | 21151 | Portland, OR.

Dated: April 13, 2004.
Jayson P. Ahern,
Assistant Commissioner, Office of Field Operations.

[FR Doc. 04-9749 Filed 4-28-04; 8:45 am]

BILLING CODE 4820-02-P